DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 11, 2025 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: WIC & FMNP Outreach, Innovation, and Modernization Evaluation.

OMB Control Number: 0584-NEW.

Summary of Collection: The American Rescue Plan Act of 2021 (ARPA), which was signed into law in March 2021, provided USDA with $390 million and waiver authority for outreach, innovation, and program modernization in WIC and the WIC Farmers' Market Nutrition Program (FMNP). FNS is interested in understanding the implementation and outcomes related to these modernization efforts. This information collection request (ICR) is for the 2023-2028 WIC & FMNP Outreach, Innovation, and Modernization Evaluation (WIC modernization evaluation). The Special Supplemental Nutrition Program for Women, Infants, and Children (WIC) provides supplemental food, nutrition education, and referrals to health and social services to pregnant and postpartum women, infants, and children up to age 5 who are living in households with low incomes and are at nutritional risk. The Farmers Market Nutrition Program (FMNP) provides eligible WIC participants with FMNP benefits, in addition to their regular WIC benefits, which can be used to buy eligible foods from authorized outlets, including farmers, farmers' markets, or roadside stands. The WIC modernization evaluation has three components: an implementation study, a waiver study, and an impact study.

Need and Use of the Information: The implementation study will provide a comprehensive understanding of project implementation while accommodating variations in the timing of projects within different program areas, implementation within and between State agencies, and innovative approaches. The implementation study will collect data from WIC State agencies, local agencies, clinics, WIC & FMNP vendors and outlets, and WIC participants. These data will provide current and ongoing information about modernization efforts in all 88 WIC State agencies.

The waiver study will provide an understanding of waiver issuance and use. The waiver study will rely on many of the same data sources as the implementation study, especially with WIC State agencies. The study will also collect information on whether and how unique waivers were implemented by WIC State agencies to conduct the modernization projects.

The impact study will measure the impact of the WIC and FMNP modernization projects on participants through key short-term and intermediate-term outcome measures. It will address whether the modernization projects improved key outcome measures and how changes in these outcomes were related to the number and type of modernization projects. Most outcomes will be measured with administrative data. The impact study will also use surveys to learn about the experiences and satisfaction of WIC program staff, WIC & FMNP vendor/outlet staff, and participants with the changes to the WIC program as a result of the modernization activities. In addition, the impact study will rely on information from the implementation and waiver studies about where and when projects and waivers were implemented.

Description of Respondents: State, local, and tribal governments, Businesses (profit, non-profit, or farm), Individuals/households.

Number of Respondents: 186,608.

Frequency of Responses: Reporting: On occasion.

Total Burden Hours: 32,110.

Rachelle Ragland-Greene,
Departmental Information Collection Clearance Officer.

[FR Doc. 2025-10565 Filed 6-10-25; 8:45 am]

BILLING CODE 3410-30-P